DEPARTMENT OF COMMERCE

National Oceanic and Atmospheric Administration

RIN 0648-XD952

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Management Team (GMT) will hold a conference call that is open to the public. To attend the GMT teleconference, participants need to dial the following toll-free number 1-888-283-0166 Participant Code: 4432591.

DATES: The GMT meeting will be held Thursday, June 4, 2015 from 1 p.m. until business for the day is completed.

ADDRESSES: The meeting will be held via conference call with a listening station provided at the Pacific Council Office, 7700 NE Ambassador Place, Suite 101, Portland, OR 97220-1384; telephone: (503) 820-2280.

Council address: Pacific Council, 7700 NE Ambassador Place, Suite 101, Portland, OR 97220-1384.

FOR FURTHER INFORMATION CONTACT: Ms. Kelly Ames, Pacific Council; telephone: (503) 820-2426.

SUPPLEMENTARY INFORMATION: The primary purpose of the GMT working meeting is to prepare for the June 2015 Council meeting. Specific agenda topics include a review of the latest West Coast Groundfish Observer Program data; inseason adjustments to groundfish fisheries; salmon Endangered Species Act reconsultation update; and the process for adopting harvest specifications and management measures for the 2017-2018 fisheries. The GMT may also address other assignments relating to groundfish management. No management actions will be decided by the GMT. Public comment will be accommodated if time allows, at the discretion of the GMT Chair. The GMT's task will be to develop recommendations for consideration by the Pacific Council at its June 10-16, 2015 meeting in Spokane, WA.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2425 at least 5 days prior to the meeting date.

Dated: May 15, 2015.
Tracey L. Thompson,
Acting Deputy Director, Office of Sustainable Fisheries, National Marine Fisheries Service.

[FR Doc. 2015-12171 Filed 5-19-15; 8:45 am]

BILLING CODE 3510-22-P